FEDERAL DEPOSIT INSURANCE CORPORATION

Sunshine Act Meeting; Notice of Meeting Held With Less Than Seven Days Advance Notice

TIME AND DATE: 10:00 a.m. on Tuesday, October 18, 2022.

PLACE: The meeting was held in the FDIC Board Room, 550 17th Street NW, Washington, DC, and was webcast to the public.

MATTERS TO BE CONSIDERED: Pursuant to the provisions of the “Government in the Sunshine Act” (5 U.S.C. 552b), notice is hereby given that the Federal Deposit Insurance Corporation's Board of Directors met in open session at 10:00 a.m. on Tuesday, October 18, 2022 to consider the matters listed below. Prior to the meeting, the Board of Directors unanimously determined that the matter “Memorandum and resolution re: Advanced Notice of Proposed Rulemaking entitled `Resolution-Related Resource Requirements for Large Banking Organizations.' ” be added to the discussion agenda with less than seven days' notice to the public, and that no earlier notice of the addition was possible than that given on Friday, October 14.

Summary Agenda

Disposition of Minutes of a Board of Directors' Meeting Previously Distributed.

Memorandum and resolution re: Final Rule on Assessments—Amendments to Incorporate Troubled Debt Restructuring Accounting Standards Update.

Memorandum and resolution re: Designated Reserve Ratio for 2023.

Summary report of actions taken pursuant to authority delegated by the Board of Directors.

Discussion Agenda

Memorandum and resolution re: Final Rule on Assessments, Revised Deposit Insurance Assessment Rates.

Memorandum and resolution re: Advanced Notice of Proposed Rulemaking entitled “Resolution-Related Resource Requirements for Large Banking Organizations.”

Memorandum and resolution re: Proposed Amendments to the Guidelines for Appeals of Material Supervisory Determinations.

CONTACT PERSON FOR MORE INFORMATION: Requests for further information concerning the meeting may be directed to Debra A. Decker, Executive Secretary of the Corporation, at 202-898-8748.

Dated at Washington, DC, on October 18, 2022.
Federal Deposit Insurance Corporation.
James P. Sheesley,
Assistant Executive Secretary.

[FR Doc. 2022-22967 Filed 10-20-22; 8:45 am]

BILLING CODE 6714-01-P